DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 30, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://fdms.gov.

This notice of receipt of applications for modification of special permit is published in accordance with Part 107 of the Federal hazardous materials transportation law (49 U.S.C. 5117(b); 49 CFR 1.53(b)).

Issued in Washington, DC, on July 7, 2009.
Delmer F. Billings,
Director, Office of Hazardous Materials Special Permits and Approvals.

Modification Special Permits
Application No. | Docket No. | Applicant | Regulation(s) affected | Nature of special permit thereof
4884-M |  | Praxair, Inc. Danbury, CT | 49 CFR 175.3; 178.61; 173.304; 173.201; 173.202; 173.302; 173.323 | To modify the special permit to authorize transportation of certain gases, corrosive liquids, and materials that are dangerous when wet in non-DOT specification cylinders similar to a DOT-4BW except that the cylinder is manufactured from stainless steel.
10945-M |  | Structural Composites Industries, LLC, Pomona, CA | 49 CFR 173.302(a); 173.304(a); 175.3 | To modify the special permit to authorize liner materials qualification as written in ISO 11119-1 & 2; bonfire test in horizontal position as an alternative to the currently required vertical position; and delay marking of hydro static test until the date that the cylinders are shipped from manufacturer to user.
11494-M |  | ARC Automotive, Inc. Knoxville, TN | 49 CFR 173.301(h); 173.302; 173.306 | (3) To modify the (d) testing requirements of 7.b.
11536-M |  | Boeing Company, The Los Angeles, CA | 49 CFR 173.102 Spec. Prov. 101; 173.24(g); 173.62; 173.202; 173.304; 175.3 | To modify the special permit to authorize the transportation in commerce of Class 9 materials.
12087-M |  | LND, Inc. Oceanside, NY | 49 CFR 172.101, Co. 9; 173.306; 175.3 | To modify the special permit to authorize a piece of equipment as a strong outer packaging.
12283-M |  | Interstate Battery of Alaska Anchorage, AK | 49 CFR 173.159(c)(1); 173.159(c) | Permit to authorize the removal of the wording for disposal or remanufacture allowing batteries to be shipped to remote villages.
12296-M |  | Clean Earth Systems, Inc. Tampa, FL | 49 CFR 173.12(b)(2)(i) | To modify the special permit to authorize an additional mode of transportation.
13306-M |  | Ecolab, Inc. St. Paul, MN | 49 CFR 172.3 12(a); 173.24a(a)(1); 173.22a | To renew and modify the special permit to authorize a new specially-designed combination packaging consisting of two plastic inner receptacles having a side closure not oriented in the upward direction for use in transporting Organic peroxide, Division 5.2.
13736-M |  | ConocoPhillips Anchorage, AK | 49 CFR 172.101 Table, Col. (9B) | To modify the special permit to authorize an increase in the capacity from 350 to 4500 U.S. gallons for bulk containers.
14576-M |  | Structural Composites Industries (SCI) Pomona, CA | 49 CFR 173.302a and 173.304a | To modify the special permit to authorize an increase in the maximum water volume from 250 liters to 450 liters and to remove the specific requirements for minimum water volume of 250 liters.
13736-M |  | ConocoPhillips Anchorage, AK | 49 CFR 172.101 Table, Col. (9B) | To modify the special permit to authorize an
14736-M |  | U.S. Department of Defense Scott Air Force Base, IL | 49 CFR 172.101 Table Column (9B) and (1OA) and § 173.227 | To reissue the special permit originally issued on an emergency basis to authorize transportation in commerce of Nitric acid, red fuming in alternative packaging.
14811-M |  | Worthington Cylinders of Canada Corp. Tilbury, Ontario, Canada | 49 CFR 173.30 1(a)(1), 173.301(a)(2) and 173.302a(a)(1) | To reissue the special permit originally issued on an emergency basis to authorize the manufacture, marking, sale and use of a non-DOT specification cylinder conforming with DOT Specification 3AA except an alternative flattening test is authorized.
14821-M |  | Matheson Tri-Gas, Inc. Basking Ridge, NJ | 49 CFR 173.40(e) | To reissue the special permit originally issued on an emergency basis to authorize transportation in commerce of certain manifolded DOT specification 3A and 3AA cylinders containing a material toxic by inhalation in Hazard Zone B.

[FR Doc. E9-16514 Filed 7-14-09; 8:45 am]

BILLING CODE 4909-60-M